DEPARTMENT OF TRANSPORTATION

Office of the Secretary

Notice of Applications for Certificates of Public Convenience and Necessity and Foreign Air Carrier Permits Filed Under Subpart B (Formerly Subpart Q) During the Week Ending March 14, 2003

The following Applications for Certificates of Public Convenience and Necessity and Foreign Air Carrier Permits were filed under subpart B (formerly subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-1996-1642.

Date Filed: March 12, 2003.

Due Date for Answers, Conforming Applications, or Motion to Modify Scope: April 2, 2003.

Description: Application of Continental Airlines, Inc., pursuant to 49 U.S.C. 41102 and subpart B, requesting renewal of its Route 729 certificate authorizing it to provide scheduled foreign air transportation of persons, property, and mail between Cleveland, OH and London, England, and to combine this authority with its other certificate and exemption authority.

Dorothy Y. Beard,
Chief, Docket Operations & Media Management, Federal Register Liaison.

[FR Doc. 03-7081 Filed 3-24-03; 8:45 am]

BILLING CODE 4910-62-P